DEPARTMENT OF COMMERCE

National Oceanic and Atmospheric Administration

RIN 0648-XE309

Pacific Fishery Management Council; Public Meeting

AGENCY: National Marine Fisheries Service (NMFS), National Oceanic and Atmospheric Administration (NOAA), Commerce.

ACTION: Notice; public meeting.

SUMMARY: The Pacific Fishery Management Council's (Council) Ecosystem Workgroup (EWG) will host a series of five webinars in January and February 2016, which are open to the public. Each webinar will begin at 1:30 p.m.

DATES: The webinars will be held January 12, January 14, January 26, January 28, and February 2, 2016.

ADDRESSES: The following login instructions will work for any of the webinars in this series.

1. Join the meeting by visiting this link: http://www.gotomeeting.com/online/webinar/join-webinar.

2. Enter the Webinar ID: 121-225-731.

3. Please enter your name and email address (required).

Once you have joined the webinar, choose either your computer's audio or select “Use Telephone.” If you do not select “Use Telephone” you will be connected to audio using your computer's microphone and speakers (VolP).

If you do not have a headset and speakers, you may use your telephone for the audio portion of the meeting by dialing this TOLL number 1-(702) 489-0007 (not a toll-free number), then enter your phone audio access code 471-159-571, then enter your audio phone pin (shown after joining the webinar).

A public listening station will also be provided at the Council office.

Council address: Pacific Council, 7700 NE Ambassador Place, Suite 101, Portland, OR 97220-1384.

FOR FURTHER INFORMATION CONTACT: Dr. Kit Dahl, Pacific Council; phone: (503) 820-2422.

SUPPLEMENTARY INFORMATION: The webinars will cover the following topics:

• Tuesday, January 12: Contents of the Annual California Current Ecosystem Status Report; physical oceanography indicators

• Thursday, January 14: Biological indicators

• Tuesday, January 26: Human dimensions indicators

• Thursday, January 28: Habitat indicators

• Tuesday, February 2: Risk assessments and application of indicators to decision making

Each webinar will begin with a short presentation by members of NOAA's California Current Integrated Ecosystem Assessment Team, followed by a discussion facilitated by the EWG. This webinar series is part of the Coordinated Ecosystem Indicator Review Initiative intended to address goals and objectives from the Council's Fishery Ecosystem Plan. Through these webinars, the EWG seeks input from Council advisory bodies and the public on the indicators presented in the Annual Report and how they can effectively support the Council's goal of integrating ecosystem considerations into fishery management decisions.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: December 14, 2015.
Tracey L. Thompson,
Acting Deputy Director, Office of Sustainable Fisheries, National Marine Fisheries Service.

[FR Doc. 2015-31735 Filed 12-16-15; 8:45 am]

BILLING CODE 3510-22-P